DEPARTMENT OF HOUSING AND URBAN DEVELOPMENT

[Docket No. FR-5907-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AIR FORCE: Mr. Robert E. Moriarty, P.E., AFCEC/CI, 2261 Hughes Avenue, Ste. 155, JBSA Lackland TX 78236-9853, (315)-225-7384; HHS: Ms. Theresa M. Ritta, Chief Real Property Branch, the Department of Health and Human Services, Room 12-07, Parklawn Building, 5600 Fishers Lane, Rockville, MD 20857, (301)-443-2265; GSA: Mr. Flavio Peres, General Services Administration, Office of Real Property Utilization and Disposal, 1800 F Street NW., Room 7040, Washington, DC 20405, (202)-501-0084; NAVY: Ms. Nikki Hunt, Department of the Navy, Asset Management Division, Naval Facilities Engineering Command, Washington Navy Yard, 1330 Patterson Ave. SW., Suite 1000, Washington, DC 20374; (202) 685-9426 (These are not toll-free numbers).

Dated: December 1, 2016.
Brian P. Fitzmaurice,
Director, Division of Community Assistance, Office of Special Needs Assistance Programs.

TITLE V, FEDERAL SURPLUS PROPERTY PROGRAM FEDERAL REGISTER REPORT FOR 12/09/2016

Suitable/Available Properties

Building

Nevada

Dormitory; 552

Nellis AFB

Nellis AFB NV 89191

Landholding Agency: Air Force

Property Number: 18201640007

Status: Unutilized

Comments: 41,800 sq. ft.; dorm (220 rooms, avg. 290 sq. ft.) good fair conditions; 12+ mos. vacant; escort required to access property; contact AF for more details on access & other conditions.

Medical Facility; 1305

Nellis AFB

Nellis AFB NV 89191

Landholding Agency: Air Force

Property Number: 18201640008

Status: Unutilized

Comments: 8,723 sf., storage; 12+ mos. vacant; good to fair conditions; escort required to access property; contact AF for more details on access & other conditions.

Traffic Check House; 1058

Nellis AFB

Nellis AFB NV 89191

Landholding Agency: Air Force

Property Number: 18201640009

Status: Unutilized

Comments: 400 sf., 12+ mos. vacant; good to fair condition; escort required to access property; contact AF for more details on accessibility & other conditions.

Traffic Check House; 698

Nellis AFB

Nellis AFB NV 89191

Landholding Agency: Air Force

Property Number: 18201640010

Status: Unutilized

Comments: 144 sf.; 12+ mos. vacant; good to fair conditions; escort required; contact AF for more details on access & other conditions.

Maintenance Hanger

Creech AFB

Creech ABF NV 89018

Landholding Agency: Air Force

Property Number: 18201640021

Status: Unutilized

Comments: 5,872 sf., 12+ months; good to fair conditions; storage; escort required; contact AF for access & other conditions.

New Hampshire

Thomas J. McIntyre Federal

Building 80 Daniel Street

Portsmouth NH

Landholding Agency: GSA

Property Number: 54201640004

Status: Excess

GSA Number: NH0515

Directions:

Landholding Agency: Public Building Service, Disposal Agency: GSA; 107,000 sq. ft.; office & mail processing; needs significant investment pre-1978 construction; therefore, any conveyance documents will include notices for presence of asbestos & lead; eligible for Nat'l Reg. of Historic Places.

Comments: contact GSA for more information and conditions.

Unsuitable Properties

Building

Alaska

Vehicle Operations Heat Pkng.

Building 32448

JBER

JBER AK

Landholding Agency: Air Force

Property Number: 18201640004

Status: Unutilized

Comments: public access denied and no alternative method to gain access without compromising national security.

Reasons: Secured Area

Hangar Maintenance

(Facility #100)

TKLH Point Barrow LRRS

USAF AK 99723

Landholding Agency: Air Force

Property Number: 18201640005

Status: Unutilized

Directions: contaminants that are located on property, documented hazardous levels. Documentation? provided represents a clear threat to personal physical safety; PCB contaminated soil.?

Comments: property located within an airport runway & within floodway which has not been correct or contained.

Reasons: Within airport runway clear zone; Floodway; Contamination

Terminal, Air Freight

(Facility #003)

AYED Barter Island LRRS

Barter Island AK 99747

Landholding Agency: Air Force

Property Number: 18201640006

Status: Unutilized

Comments: contaminants located on property; PCB, arsenic & chromium; property located within an airport runway & within floodway which has not been corrected or contained.

Reasons: Floodway; Within airport runway clear zone; Contamination

Latrine (Pedneau Range)

Building 59192

JBER

JBER AK 99505

Landholding Agency: Air Force

Property Number: 18201640019

Status: Excess

Comments: public access denied and no alternative method to gain access without compromising national security.

Reasons: Secured Area

California

Item 07 RESM 2008, CIVIL 172

RPUID: 90515

Naval Base San Diego

San Diego CA

Landholding Agency: Navy

Property Number: 77201640008

Status: Underutilized

Comments: public access denied and no alternative method to gain access without compromising national security.

Reasons: Secured Area

Colorado

1156

Peterson

Peterson AFB CO 80914

Landholding Agency: Air Force

Property Number: 18201640013

Status: Unutilized

Comments: public access denied and no alternative method to gain access without compromising national security.

Reasons: Secured Area

Building 1154

Peterson AFB

Peterson CO 80914

Landholding Agency: Air Force

Property Number: 18201640016

Status: Unutilized

Comments: public access denied and no alternative method to gain access without compromising national security.

Reasons: Secured Area

Georgia

4 Buildings

Robins Air Force Base

Robins AFB GA

Landholding Agency: Air Force

Property Number: 18201640002

Status: Underutilized

Directions: 4277; 4273; 2070; 2028

Comments: public access denied and no alternative method to gain access without compromising national security.

Reasons: Secured Area

Facility 4287

Robins Air Force Base

RAFB GA 31098

Landholding Agency: Air Force

Property Number: 18201640030

Status: Underutilized

Comments: public access denied & no alternative method to gain access without compromising national security.

Reasons: Secured Area

Facility 4285

Robins Air Force Base

RAFB GA 31098

Landholding Agency: Air Force

Property Number: 18201640031

Status: Underutilized

Comments: public access denied & no alternative method to gain access without compromising national security.

Reasons: Secured Area

Facility 4283

Robins Air Force Base

RAFB GA 31098

Landholding Agency: Air Force

Property Number: 18201640032

Status: Underutilized

Comments: public access denied & no alternative method to gain access without compromising national security.

Reasons: Secured Area

Facility 4281

Robins Air Force Base

RAFB GA 31098

Landholding Agency: Air Force

Property Number: 18201640033

Status: Underutilized

Comments: public access denied & no alternative method to gain access without compromising national security.

Reasons: Secured Area

Maryland

NIHBC Buildings 18, 18T, and 32

NIH Bethesda Campus

Bethesda MD 20892

Landholding Agency: HHS

Property Number: 57201640001

Status: Unutilized

Directions: 40506-00-0018; 40506-00-0018T; 40506-00-0032

Comments: radioactive materials present clear threat to physical safety; public access denied and no alternative method to gain access without compromising national security.

Reasons: Secured Area; Contamination

Nevada

51; 152 AW/NVANG

1776 National Guard Way

Reno NV 89502

Landholding Agency: Air Force

Property Number: 18201640012

Status: Unutilized

Comments: public access denied and no alternative method to gain access without compromising national security.

Reasons: Secured Area

Aircraft Maintenance Shop 290

Nellis AFB

Nellis NV 89191

Landholding Agency: Air Force

Property Number: 18201640036

Status: Unutilized

Comments: friable asbestos present.

Reasons: Contamination

New Jersey

Facility HEKP 5953, Gymnasium

JBMDL

JBMDL NJ

Landholding Agency: Air Force

Property Number: 18201640014

Status: Unutilized

Comments: public access denied and no alternative method to gain access without compromising national security.

Reasons: Secured Area

Facility HEKP 5891

Refuse Garbage Building

JBMDL

JBMDL NJ

Landholding Agency: Air Force

Property Number: 18201640015

Status: Unutilized

Comments: public access denied and no alternative method to gain access without compromising national security.

Reasons: Secured Area

Facility 1931, Disaster Prep

JBMDL

JBMDL NJ

Landholding Agency: Air Force

Property Number: 18201640017

Status: Unutilized

Comments: public access denied and no alternative method to gain access without compromising national security.

Reasons: Secured Area

Facility 1732

Aerial Port Training Facility

JBMDL

JBMDL NJ

Landholding Agency: Air Force

Property Number: 18201640018

Status: Unutilized

Comments: public access denied and no alternative method to gain access without compromising national security.

Reasons: Secured Area

Faculty 281

Transformer Vault Building

JBMDL

JBMDL NJ

Landholding Agency: Air Force

Property Number: 18201640037

Status: Underutilized

Comments: public access denied and no alternative method to gain access without compromising national security.

Reasons: Secured Area

New Mexico

Building 247

Cannon AFB

Cannon NM

Landholding Agency: Air Force

Property Number: 18201640035

Status: Unutilized

Comments: public access denied and no alternative method to gain access without compromising national security.

Reasons: Secured Area

Building 1800

Cannon AFB

Cannon NM 88103

Landholding Agency: Air Force

Property Number: 18201640039

Status: Underutilized

Comments: property located within a military airfield; public access denied and no alternative method to gain access without compromising national security.

Reasons: Secured Area; Within airport runway clear zone

Building 1801

Cannon AFB

Cannon NM 88103

Landholding Agency: Air Force

Property Number: 18201640040

Status: Underutilized

Comments: property located within a military airfield; public access denied and no alternative method to gain access without compromising national security.

Reasons: Within airport runway clear zone; Secured Area

Building 1802

Cannon AFB

Cannon NM 88103

Landholding Agency: Air Force

Property Number: 18201640041

Status: Underutilized

Comments: property located within a military airfield; public access denied and no alternative method to gain access without compromising national security.

Reasons: Secured Area; Within airport runway clear zone

442

Cannon AFB

Cannon NM 88103

Landholding Agency: Air Force

Property Number: 18201640042

Status: Unutilized

Comments: public access denied and no alternative method to gain access without compromising national security.

Reasons: Secured Area

Building 1400

Cannon AFB

Cannon NM 88103

Landholding Agency: Air Force

Property Number: 18201640043

Status: Underutilized

Comments: public access denied and no alternative method to gain access without compromising national security.

Reasons: Secured Area

Ohio

Facility 34071

Wright Patterson AFB

Green County OH 45433

Landholding Agency: Air Force

Property Number: 18201640028

Status: Excess

Comments: public access denied and no alternative method to gain access without compromising national security; located within an airport runway.

Reasons: Secured Area; Within airport runway clear zone

Facility 34065

Wright Patterson Air Force Base

WPAFB OH 45433

Landholding Agency: Air Force

Property Number: 18201640029

Status: Excess

Comments: public access denied & no alternative method to gain access without compromising national security; property located within an airport runway clear zone or military airfield.

Reasons: Secured Area; Within airport runway clear zone

Pennsylvania

Building 112

Horsham Air Guard Station

Horsham PA 19044

Landholding Agency: Air Force

Property Number: 18201640011

Status: Underutilized

Comments: public access denied and no alternative method to gain access without compromising national security.

Reasons: Secured Area

South Carolina

2 Buildings

Shaw AFB

Shaw AFB SC

Landholding Agency: Air Force

Property Number: 18201640003

Status: Underutilized

Directions: 98; 1047

Comments: public access denied and no alternative method to gain access without compromising national security.

Reasons: Secured Area

114

Shaw AFB

Shaw AFB SC

Landholding Agency: Air Force

Property Number: 18201640020

Status: Underutilized

Comments: public access denied and no alternative method to gain access without compromising national security.

Reasons: Secured Area

1407

Shaw Air Force Base

Shaw SC

Landholding Agency: Air Force

Property Number: 18201640022

Status: Underutilized

Comments: public access denied and no alternative method to gain access without compromising national security.

Reasons: Secured Area

1408

Shaw Air Force Base

Shaw SC

Landholding Agency: Air Force

Property Number: 18201640024

Status: Underutilized

Comments: Public access denied and no alternative method to gain access without compromising national security.

Reasons: Secured Area

1409

Shaw Air Force Base

Shaw SC

Landholding Agency: Air Force

Property Number: 18201640025

Status: Underutilized

Comments: Public access denied and no alternative method to gain access without compromising national security.

Reasons: Secured Area

1413

Shaw Air Force Base

Shaw SC

Landholding Agency: Air Force

Property Number: 18201640026

Status: Underutilized

Comments: public access denied and no alternative method to gain access without compromising national security.

Reasons: Secured Area

399

Shaw Air Force Base

Shaw SC

Landholding Agency: Air Force

Property Number: 18201640027

Status: Underutilized

Comments: public access denied and no alternative method to gain access without compromising national security.

Reasons: Secured Area

Virginia

663 Darcy Pl

JBLE (Ft. Eustis)

ft. Eustis VA

Landholding Agency: Air Force

Property Number: 18201640038

Status: Unutilized

Comments: public access denied and no alternative method to gain access without compromising national security.

Reasons: Secured Area

[FR Doc. 2016-29207 Filed 12-8-16; 8:45 am]

BILLING CODE 4210-67-P